DEPARTMENT OF HEALTH AND HUMAN SERVICES

Centers for Disease Control and Prevention

[Program Announcement 02087]

Distribution and Evaluation of Hepatitis Curricula for Inmates and Correctional Staff; Notice of Availability of Funds

A. Purpose

The Centers for Disease Control and Prevention (CDC) announces the availability of fiscal year (FY) 2002 funds for a cooperative agreement program for distribution and evaluation of hepatitis curricula for inmates and correctional staff. This program addresses the “Healthy People 2010” focus area of Immunization and Infectious Diseases.

The purpose of the program is to provide assistance for the printing, distribution and evaluation of an existing educational curriculum that addresses the prevention counseling, testing and treatment of viral hepatitis in correctional settings in the United States. Specifically, applications are solicited for viral hepatitis curricula aimed at the education and training of inmates and correctional staff.

B. Eligible Applicants

Applications may be submitted by public and private non-profit organizations and by governments and their agencies; that is, universities, colleges, research institutions, hospitals, other public and private non-profit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations and Faith-based organizations are eligible to apply.

Applicants must have ready access to corrections facilities for distribution and evaluation of their educational curricula.

Note: Title 2 of the United States Code section 1611 states that an organization described in section 501(c)(4) of the Internal Revenue Code that engages in lobbying activities is not eligible to receive Federal funds constituting an award, grant or loan.

C. Availability of Funds

Approximately $150,000 is available in FY 2002 to fund one award. It is expected that the award will begin on or about September 1, 2002, and will be made for a 12-month budget period within a project period of one year. The funding estimate may change.

Funding Preferences

In making awards, priority for funding will be given to applicants with existing educational curricula for purposes of increasing the health (especially hepatitis) knowledge and awareness of incarcerated persons and those under the supervision of corrections staff, as well as the corrections staff itself, in local, State and Federal public and private corrections programs with a demonstrated high concentration of persons at high risk for viral hepatitis infection. Further preference will be given to applicants with a mechanism in place to distribute curricula materials to corrections facilities nationwide.

D. Program Requirements

In conducting activities to achieve the purpose of this program, the recipient will be responsible for the activities under 1. (Recipient Activities), and CDC will be responsible for the activities listed under 2. (CDC Activities).

1. Recipient Activities

a. Develop an operational plan and time-line for the project period that will reproduce and distribute an existing curricula to educate inmates and corrections officers.

b. Develop a plan that will evaluate the curricula and measure, at a minimum, changes in knowledge of specific audiences who would most benefit from curricula's effectiveness (e.g., corrections staff, inmates).

c. Analyze the evaluation results and publish the findings and recommendations.

2. CDC Activities

a. Provide technical support related to viral hepatitis information and evaluation methodology, as requested.

b. Provide technical assistance for the distribution of the curricula, for both inmates and corrections staff, as requested.

c. Provide assistance in developing the evaluation plan, as requested.

d. Assist in the development of a research protocol for Institutional Review Board (IRB) review by all cooperating institutions participating in the research project. The CDC IRB will review and approve the protocol initially and or at least on an annual basis until the research project is completed.

E. Content

Letter of Intent (LOI)

An LOI is optional for this program. The narrative should be no more than 5 single-spaced pages, printed on one side, with one inch margins, and unreduced font. Your letter of intent will be used to plan and execute the evaluation of applications, and should include the following information: (1) name and address of institution, and (2) Name, address, and telephone number of contact person.

Applications

Use the information in the Program Requirements, Other Requirements, and Evaluation Criteria sections to develop the application content. Your application will be evaluated on the criteria listed, so it is important to follow them in laying out your program plan. The narrative should be no more than 20 double-spaced pages, printed on one side, with one inch margins, and unreduced font.

Include the following in the narrative section of your application:

1. Provide clear, measurable, time-phased objectives as a part of the plan of operation with clearly stated long range goals.

2. Provide an operational plan that describes how the objectives will be achieved.

3. Provide an evaluation plan that includes qualitative and quantitative measures to assess the effectiveness of the program in accomplishing the program objectives.

4. Provide a projected time line for conducting the proposed program and evaluation activities.

5. Provide a description of personnel that includes current and proposed staff with position titles, position descriptions, experience, and percentage of time staff person will devote to assigned project responsibilities. Also, include a curriculum vita for new staff.

6. Provide a detailed, line-item budget for the project period that justifies each line-item.

F. Submission and Deadline

Letter of Intent (LOI)

On or before June 1, 2002, submit the LOI to the Grants Management Specialist identified in the “Where to Obtain Additional Information” section of this announcement.

Application

Submit the original and five copies of PHS-398 (OMB Number 0925-0001) (adhere to the instructions on the Errata Instruction Sheet for PHS 398). Forms are available in the application kit and at the following Internet address: www.cdc.gov/od/pgo/forminfo.htm.

On or before July 1, 2002, submit the application to:

Technical Information Management-PA 02087,

Procurement and Grants Office,

Centers for Disease Control and Prevention,

2920 Brandywine Rd, Room 3000,

Atlanta, GA 30341-4146.

Deadline: Applications shall be considered as meeting the deadline if they are received on or before the deadline date.

Late: Applications which do not meet the criteria above will be returned to the applicant.

G. Evaluation Criteria

Each application will be evaluated individually against the following criteria by an independent review group appointed by CDC.

1. Objectives (30 points)

The degree to which the project objectives are capable of achieving the specific requirements defined in the program announcement. Objectives should include process and outcome measures.

2. Plan (15 points)

The degree to which the proposed activities described in the plan of operation, addresses the objectives and the degree of attainability of these objectives. The degree to which the applicant has met the CDC Policy requirements regarding the inclusion of women, ethnic, and racial groups in the proposed research. This includes: (a) The proposed plan for the inclusion of both sexes and racial and ethnic minority populations for appropriate representation, (b) the proposed justification when representation is limited or absent, (c) a statement as to whether the design of the study is adequate to measure differences when warranted, and (d) a statement as to whether the plans for recruitment and outreach for study participants include the process of establishing partnerships with community(ies) and recognition of mutual benefits.

3. Evaluation (10 points)

The extent to which the proposed plan for evaluation measures the changes in knowledge of the target audiences, the impact on health behaviors and the cost benefit of such training for the organizations involved.

4. Staff (10 points)

The degree to which the applicant documents the staff qualifications and skills needed to conduct the project activities.

5. Capacity (30 total points)

a. The degree to which the organization demonstrates access to the institutions and target populations necessary in representing both the security and health aspects of a broad range of correctional facilities and activities (e.g., pre-release). The organizations must show evidence of a quality curricula with supporting educational materials. (15 points)

b. Evidence of experience working with corrections in health, security, and capable staff to deliver education and training to inmates and staff. (15 points)

6. Measures of Effectiveness (5 points)

Does the applicant provide Measures of Effectiveness that will demonstrate the accomplishment of the purpose of the cooperative agreement? Are the measures objective/quantitative and do they adequately measure the intended outcome?

7. Budget (Not scored)

The degree to which the budget is reasonable, clearly justified, and consistent with the intended use of funds.

8. Human Subjects (Not Scored)

Does the application adequately address the requirements of Title 45 CFR part 46 for the protection of human subjects? An application can be disapproved if the research risks are sufficiently serious and protection against risks is so inadequate as to make the entire application unacceptable.

H. Other Requirements

Technical Reporting Requirements

Provide CDC with original plus two copies of:

1. Semiannual progress reports.

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment I of the announcement in the application kit.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

AR-15 Proof of Non-Profit Status

AR-22 Research Integrity

I. Authority and Catalog of Federal Domestic Assistance Number

This program is authorized under sections 301(a), and 317(k)(1) and 317(k)(2) of the Public Health Service Act, [42 U.S.C. sections 241(a), and 247b(k)(1) and 247(k)(2)], as amended. The Catalog of Federal Domestic Assistance number is 93.283.

J. Where To Obtain Additional Information

This and other CDC announcements can be found on the CDC home page Internet address— http://www.cdc.gov. Click on “Funding” then “Grants and Cooperative Agreements.”

If you have questions after reviewing the contents of all the documents, business management technical assistance may be obtained from:

Sharon Robertson, Grants Management Specialist, Acquisition and Assistance, Branch B, Procurement and Grants Office, Centers for Disease Control and Prevention, 2920 Brandywine Road, Room 3000, Atlanta, GA 30341-4146.

Telephone number: 770-488-2748. e-mail address: sqr2@cdc.gov.

For program technical assistance, contact: Linda Moyer, Centers for Disease Control and Prevention, National Center for Infectious Diseases, Division of Viral Hepatitis, 1600 Clifton Rd, NE, Mailstop G-37, Atlanta, GA 30333. Telephone number: 404-371-5910. e-mail address: lam1@cdc.gov.

Dated: April 25, 2002.
Sandra R. Manning,
Director, Procurement and Grants Office, Centers for Disease Control and Prevention.

[FR Doc. 02-10680 Filed 4-30-02; 8:45 am]

BILLING CODE 4163-18-P